DEPARTMENT OF HEALTH AND HUMAN SERVICES

Substance Abuse and Mental Health Services Administration

Notice of Meeting

Pursuant to Public Law 92-463, notice is hereby given that the Substance Abuse and Mental Health Services Administration (SAMHSA) National Advisory Council will meet on April 22, 2009 in the San Carlos Apache Reservation, San Carlos, Arizona.

The meeting is open to the public. It will include a report from the SAMHSA Acting Administrator, Update on SAMHSA's Budget, and discussions focusing on Understanding the Role of Behavioral Health in Overall Health and Creating and Sustaining Recovery-Oriented Systems of Care for American Indian/Alaska Native Communities.

Attendance by the public will be limited to space available. Public comments are welcome. The meeting can also be accessed via teleconference. To obtain the teleconference call-in numbers and access codes, to register, to submit written or brief oral comments, or to request special accommodations for persons with disabilities, please communicate with the SAMHSA National Advisory Council Designated Federal Official, Ms. Toian Vaughn (see contact information below).

Substantive program information, a summary of the meeting, and a roster of Council members may be obtained as soon as possible after the meeting, either by accessing the SAMHSA Committee Web site, https://nac.samhsa.gov/NACcouncil/index.aspx or by contacting Ms. Vaughn. The transcript for the meeting will also be available on the SAMHSA Committee Web site within three weeks after the meeting.

Committee Name: SAMHSA National Advisory Council.

Date/Time/Type: Wednesday, April 22, 2009, from 8:30 a.m. to 5:30 p.m.: Open.

Place: San Carlos Apache Tribal Reservation, Apache Gold Casino Resort Convention Center, Highway 70, San Carlos, Arizona 85550.

Contact: Toian Vaughn, M.S.W., Designated Federal Official, SAMHSA National Advisory Council and SAMHSA Committee Management Officer, 1 Choke Cherry Road, Room 8-1089, Rockville, Maryland 20857.

Telephone: (240) 276-2307; FAX: (240) 276-2220 and E-mail: toian.vaughn@samhsa.hhs.gov.

Toian Vaughn,
Committee Management Officer, Substance Abuse and Mental Health Services Administration.

[FR Doc. E9-4864 Filed 3-6-09; 8:45 am]

BILLING CODE 4162-20-P